DEPARTMENT OF HEALTH AND HUMAN SERVICES

National Institutes of Health

Proposed Collection; Comment Request: Impact of Clinical Research Training and Medical Education at the Clinical Center on Physician Careers in Academia and Clinical Research

SUMMARY: In compliance with the requirement of Section 3506(c)(2)(A) of the Paperwork Reduction Act of 1995, for opportunity for public comment on proposed data collection projects, the Clinical Center, the National Institutes of Health (NIH) will publish periodic summaries of proposed projects to be submitted to the Office of Management and Budget (OMB) for review and approval.

Proposed Collection

Title: The Impact of Clinical Research Training and Medical Education at the Clinical Center on Physician Careers in Academia and Clinical Research.

Type of Information Collection Request: Extension; 0925-0602.

Need and Use of Information Collection: The information collected will allow continued assessment of the value of the training provided by the Office of Clinical Research Training and Medical Education (OCRTME) at the NIH Clinical Center and the extent to which this training promotes (a) Patient safety; (b) research productivity and independence; and (c) future career development within clinical, translational, and academic research settings. The information received from respondents is presented to, evaluated by, and incorporated into the ongoing operational improvement efforts of the Director of the Office of Clinical Research Training and Education, and the Clinical Center Director. This information will enable the ongoing operational improvement efforts of the OCRTME and its commitment to providing clinical research training and medical education of the highest quality to each trainee.

Frequency of Response: Annually.

Affected Public: Former clinical research trainees at the NIH Clinical Center.

Type of Respondents: MD's, MD trainees, and students.

The annual reporting burden is as follows:

Estimated Number of Respondents: 825; Estimated Number of Responses per Respondent: 1; Average Burden Hours per Response: 0.35; and Estimated Total Annual Burden Hours Requested: 289.

There are no Capital Costs, Operating Costs and/or Maintenance Costs to report.

Type of respondents | Estimated number of respondents | Estimated number of responses per respondent | Average burden hours per response | Estimated total annual burden hours requested
Doctoral Level | 625 | 1 | 0.35 | 219
Students | 100 | 1 | 0.35 | 35
Other | 100 | 1 | 0.35 | 35
Total |  |  |  | 289

Request for Comments: Written comments and/or suggestions from the public and affected agencies should address one or more of the following points: (1) Evaluate whether the proposed collection of information is necessary for the proper performance of the function of the agency, including whether the information will have practical utility; (2) Evaluate the accuracy of the agency's estimate of the burden of the proposed collection of information, including the validity of the methodology and assumptions used; (3) Enhance the quality, utility, and clarity of the information to be collected; and (4) Minimize the burden of the collection of information on those who are to respond, including the use of appropriate automated, electronic, mechanical, or other technological collection techniques or other forms of information technology.

FOR FURTHER INFORMATION CONTACT: To request more information on the proposed project or to obtain a copy of the data collection plans and instruments, contact:

Contact: Robert M. Lembo, MD.

Address: 10 Center Drive/1N252C, Bethesda, MD 20892-1352.

Telephone: 301-496-2636.

Fax: 301-435-5275.

Email: robert.lembo@nih.gov.

Comments Due Date: Comments regarding this information collection are best assured of having their full effect if received within 60-days of the date of this publication.

Dated: June 28, 2012.
Laura Lee,
Project Clearance Liaison, Warren Grant Magnuson Clinical Center, National Institutes of Health.

[FR Doc. 2012-17120 Filed 7-12-12; 8:45 am]

BILLING CODE 4140-01-P